DEPARTMENT OF ENERGY

Federal Energy Regulatory Commission

[Docket No. ES01-17-000, et al.]

Valley Electric Association, Inc., et al.; Electric Rate and Corporate Regulation Filings

January 17, 2001.

Take notice that the following filings have been made with the Commission:

1. Valley Electric Association, Inc.

[Docket No. ES01-17-000]

Take notice that on January 11, 2001, Valley Electric Association, Inc. (Valley Electric) submitted an application pursuant to section 204 of the Federal Power Act seeking authorization to make long-term borrowings under a loan agreement with the National Rural Utilities Cooperative Finance Corporation (CFC) in the amount of $39.3 million and short-term borrowings under a line of credit with the CFC in an amount not to exceed $15 million.

Valley Electric also requests a waiver from the Commission's competitive bidding and negotiated placement requirements at 18 CFR 34.2.

Comment date: February 7, 2001, in accordance with Standard Paragraph E at the end of this notice.

2. Florida Power Corporation

[Docket No. ER97-2846-002]

Take notice that on January 12, 2001, Florida Power Corporation (Florida Power), tendered for filing a request that the Commission accept the market study submitted in its recent merger proceedings with Carolina Power & Light Company as its updated market analysis that is required in conjunction with sales under its market-based rate tariff (FERC Electric Tariff, Original Volume No. 8).

Copies of the filing were served upon the public service commissions of Florida, North Carolina and South Carolina.

Comment date: February 2, 2001, in accordance with Standard Paragraph E at the end of this notice.

3. Wheelabrator Lassen Inc., Wheelabrator Hudson Energy Company, Wheelabrator Shasta Energy Company Inc., Martell Cogeneration Limited Partnership, Wheelabrator Frackville Energy Company, Wheelabrator Sherman Energy Company, Ridge Generating Station Limited Partnership, and Wheelabrator Norwalk Energy Company

[Docket No. QF81-21-003, Docket No. QF81-35-002, Docket No. QF84-431-002, Docket No. QF85-20-001, Docket No. QF85-204-003, Docket No. QF85-698-001, Docket No. QF92-158-001, and Docket No. QF01-15-001]

Take notice that on January 9, 2001, Wheelabrator Lassen Inc. (Lassen), Wheelabrator Hudson Energy Company (Hudson), Wheelabrator Shasta Energy Company Inc. (Shasta Energy), Martell Cogeneration Limited Partnership (Martell), Wheelabrator Frackville Energy Company (Frackville), Wheelabrator Sherman Energy Company (Sherman), Ridge Generating Station Limited Partnership (Ridge), and Wheelabrator Norwalk Energy Company (Norwalk), filed an amendment to their respective Requests for Recertification of Qualifying Facility Status filed on November 1, 2000 in the above-referenced proceedings.

Comment date: February 8, 2001, in accordance with Standard Paragraph E at the end of this notice.

4. Carolina Power & Light Company

[Docket No. ER99-2311-003]

Take notice that on January 11, 2001, Carolina Power & Light Company tendered for filing a request that the Commission accept the market study submitted in its recent merger proceedings as its updated market analysis that is required in conjunction with sales under its market-based rate tariff (FERC Electric Tariff, Volume No. 4).

Copies of the filing were served upon the North Carolina Utilities Commission, the South Carolina Public Service Commission and the Florida Public Service Commission.

Comment date: February 1, 2001, in accordance with Standard Paragraph E at the end of this notice.

5. Old Dominion Electric Cooperative

[Docket No. ER01-259-001]

Take notice that on January 11, 2001, Old Dominion Electric Cooperative (Applicant), tendered for filing designated rate schedule sheets in this proceeding as directed by the Director, Division of Corporate Applications, in an Order issued on December 12, 2000. These rate schedule designations were filed to comply with Commission Order No. 614, FERC Stats. & Regs. 31,096 (2000).

Comment date: February 1, 2001, in accordance with Standard Paragraph E at the end of this notice.

6. WPS Resources Operating Companies

[Docket No. ER01-320-001]

Take notice that on January 12, 2001, WPS Resources Operating Companies (WPSR), tendered for filing substitute tariff sheets in compliance with the Commission's order issued December 29, 2000 in WPS Resources Operating Companies, 93 FERC ¶ 61,338.

WPSR requests that this compliance filing be made effective January 1, 2001, consistent with the Commission's acceptance of the original filing in its December 29 order.

Copies of the filing were served upon those persons on the official service list in this proceeding, the Michigan Public Service Commission and the Public Service Commission of Wisconsin.

Comment date: February 2, 2001, in accordance with Standard Paragraph E at the end of this notice.

7. NEV, L.L.C., et al.

[Docket Nos. ER97-4636-011, ER97-4652-011 ER97-4653-011, ER97-4654-011, and ER01-429-001]

Take notice that on January 11, 2001, AES NewEnergy, Inc. (AES NewEnergy), tendered for filing its compliance filing pursuant to the Letter Order issued on December 12, 2000, by the Federal Energy Regulatory Commission, conditionally accepting for filing the triennial updated market power analysis filed on November 8, 2000, by NEV, L.L.C., NEV East, L.L.C., NEV California, L.L.C., and NEV Midwest, L.L.C.

Comment date: February 1, 2001, in accordance with Standard Paragraph E at the end of this notice.

8. American Transmission Company LLC

[Docket No. ER01-826-001]

Take notice that on January 12, 2001, American Transmission Company LLC (ATCLLC), tendered for filing Attachment A to Service Agreement 54, which was inadvertently omitted when the Agreement was originally filed on December 29, 2000 in Docket No. ER01-826-000.

ATCLLC requests an effective date of January 1, 2001.

Comment date: February 2, 2001, in accordance with Standard Paragraph E at the end of this notice.

9. Pacific Gas and Electric Company

[Docket No. ER00-851-002]

Take notice that on January 11, 2001, Pacific Gas and Electric Company (PG&E), tendered for filing a response regarding a wholesale customers refund report in compliance with an Order of the Federal Energy Regulatory Commission, in Docket Nos. ER00-851-000 and ER00-851-001, dated October 12, 2000, 93 FERC ¶ 61,038.

PG&E never billed to or collected from its wholesale customers any OOM costs for the “locked-in” period from January 1, 2000 until June 28, 2000 and therefore has no refunds to report in FERC Docket Nos. ER00-851-000 or ER00-851-001.

Comment date: February 1, 2001, in accordance with Standard Paragraph E at the end of this notice.

10. New England Power Company

[Docket No. ER01-745-001]

Take notice that on January 11, 2001, New England Power Company (NEP), tendered for filing an amendment to its December 21, 2000 filing in the above-referenced docket. This docket concerns a service agreement between NEP and Rhode Island State Energy Partners, L.P. (RISEP) for Firm Local Generation Delivery Service under NEP's FERC Electric Tariff, Second Revised Volume No. 9.

Copies of the filing have been served upon RISEP and the Rhode Island Public Utilities Commission.

Comment date: February 1, 2001, in accordance with Standard Paragraph E at the end of this notice.

11. The Cincinnati Gas & Electric Company

[Docket No. ER01-810-000]

Take notice that on January 11, 2001, The Cincinnati Gas & Electric Company (CG&E), tendered for filing Notice of One-Day Delay in cancellation for the Electric Service Agreement between CG&E and The West Harrison Gas and Electric Company (West Harrison) filed with the Commission on December 27, 2000 in the above-referenced docket.

CG&E requests that the termination be effective as of January 2, 2001.

Copies of the filing were served upon the affected customer and the Public Utilities Commission of Ohio and the Indiana Utility Regulatory Commission.

Comment date: February 1, 2001, in accordance with Standard Paragraph E at the end of this notice.

12. Allegheny Energy Service Corporation on behalf of Allegheny Energy Supply Company, LLC

[Docket No. ER01-925-000]

Take notice that on January 11, 2001, Allegheny Energy Service Corporation on behalf of Allegheny Energy Supply Company, LLC (Allegheny Energy Supply), tendered for filing Service Agreement No. 108 to add one (1) new Customer to the Market Rate Tariff under which Allegheny Energy Supply offers generation services.

Allegheny Energy Supply requests a waiver of notice requirements for an effective date of December 12, 2000 for LG&E Energy Marketing Inc.

Copies of the filing have been provided to the Public Utilities Commission of Ohio, the Pennsylvania Public Utility Commission, the Maryland Public Service Commission, the Virginia State Corporation Commission, the West Virginia Public Service Commission, and all parties of record.

Comment date: February 1, 2001, in accordance with Standard Paragraph E at the end of this notice.

13. Wisconsin Electric Power Company

[Docket No. ER01-926-000]

Take notice that on January 11, 2001, Wisconsin Electric Power Company (Wisconsin Electric), tendered for filing an electric service agreement under its Market Rate Sales Tariff (FERC Electric Tariff, Original Volume No. 8) with Calpine Energy Services, LP.

Wisconsin Electric respectfully requests an effective date of January 12, 2001 to allow for economic transactions.

Copies of the filing have been served on Calpine Energy Services, LP., the Michigan Public Service Commission, and the Public Service Commission of Wisconsin.

Comment date: February 1, 2001, in accordance with Standard Paragraph E at the end of this notice.

14. LSP Energy Limited Partnership

[Docket No. ER01-927-000]

Take notice that on January 11, 2001, LSP Energy Limited Partnership (LSP Energy), tendered for filing under Section 205 of the Federal Power Act a Third Revised Service Agreement No. 10 under LSP Energy's FERC Electric Tariff, Original Volume No. 1 (Power Purchase Agreement between LSP Energy and Virginia Electric and Power Company, as amended through the Fourth Amendment thereto dated as of December 13, 2000).

Comment date: February 1, 2001, in accordance with Standard Paragraph E at the end of this notice.

15. American Transmission Company LLC

[Docket No. ER01-928-000]

Take notice that on January 11, 2001, American Transmission Company LLC (ATCLLC), tendered for filing four short-term firm and non-firm service agreements for point-to-point transmission service with Enron Power Marketing, Inc and Alliant Energy Corporate Services, Inc.

ATCLLC requests an effective date of January 1, 2001.

Comment date: February 1, 2001, in accordance with Standard Paragraph E at the end of this notice.

16. Wisconsin Electric Power Company

[Docket No. ER01-924-000]

Take notice that on January 11, 2001 Wisconsin Electric Power Company (Wisconsin Electric), tendered for filing, electric service agreements under its Market Rate Sales Tariff (FERC Electric Tariff, Original Volume No. 8) and its Coordination Sales Tariff (FERC Electric Tariff, Second Revised Volume No. 2) with Minnesota Municipal Power Agency.

Wisconsin Electric respectfully requests an effective date of December 30, 2000 to allow for economic transactions.

Copies of the filing have been served on Minnesota Municipal Power Agency, the Michigan Public Service Commission, and the Public Service Commission of Wisconsin.

Comment date: February 1, 2001, in accordance with Standard Paragraph E at the end of this notice.

17. New England Power Company

[Docket No. ER01-888-001]

Take notice that on January 11, 2001, New England Power Company (NEP), tendered for filing an amendment to its January 3, 2001 filing in the above-referenced docket. This docket concerns a service agreement between NEP and American Paper Mills of Vermont, Inc. (American) for Firm Local Generation Delivery Service under NEP's FERC Electric Tariff, Second Revised Volume No. 9.

Copies of the filing have been served upon American and the Vermont Public Service Board.

Comment date: February 1, 2001, in accordance with Standard Paragraph E at the end of this notice.

18. PJM Interconnection, L.L.C.

[Docket No. ER01-204-001]

Take notice that on January 11, 2001, PJM Interconnection, L.L.C. (PJM), tendered for filing amendments to the confidentiality provisions of the Amended and Restated Operating Agreement of PJM Interconnection, L.L.C. in compliance with the Commission's order in PJM Interconnection, L.L.C., 93 FERC ¶ 61,369 (2000).

Copies of this filing were served upon all parties to this proceeding, PJM Members, and the state electric regulatory commissions within the PJM control area.

Comment date: February 1, 2001, in accordance with Standard Paragraph E at the end of this notice.

19. Panda Gila River, L.P.

[Docket No. ER01-931-000]

Take notice that on January 11, 2001, Panda Gila River, L.P. (Panda Gila River), tendered for filing pursuant to Rule 205, 18 CFR 385.205, a petition for waivers and blanket approvals under various regulations of the Commission and for an order accepting its FERC Electric Rate Schedule No. 1, and for the purpose of permitting Panda Gila River to assign transmission capacity and to resell Firm Transmission Rights, to be effective no later than sixty (60) days from the date of its filing.

Panda Gila River intends to engage in electric power and energy transactions as a marketer and a broker. In transactions where Panda Gila River sells electric energy, it proposes to make such sales on rates, terms, and conditions to be mutually agreed to with the purchasing party. Panda Gila River represents that neither Panda Gila River nor any of its affiliates possesses market power as would prevent approval of the requested authorization.

Rate Schedule No. 1 provides for the sale of energy and capacity at agreed prices.

Comment date: February 1, 2001, in accordance with Standard Paragraph E at the end of this notice.

20. Union Power Partners, L.P.

[Docket No. ER01-930-000]

Take notice that on January 11, 2001, Union Power Partners, L.P. (UPP), tendered for filing pursuant to Rule 205, 18 CFR 385.205, a petition for waivers and blanket approvals under various regulations of the Commission and for an order accepting its FERC Electric Rate Schedule No. 1, and for the purpose of permitting UPP to assign transmission capacity and to resell Firm Transmission Rights, to be effective no later than sixty (60) days from the date of its filing.

UPP intends to engage in electric power and energy transactions as a marketer and a broker. In transactions where UPP sells electric energy, it proposes to make such sales on rates, terms, and conditions to be mutually agreed to with the purchasing party. UPP represents that neither UPP nor any of its affiliates possesses market power as would prevent approval of the requested authorization.

Rate Schedule No. 1 provides for the sale of energy and capacity at agreed prices.

Comment date: February 1, 2001, in accordance with Standard Paragraph E at the end of this notice.

21. American Transmission Company LLC

[Docket No. ER01-765-001]

Take notice that on January 12, 2001, American Transmission Company LLC (ATCLLC), tendered for filing Designations for the Operating Agreement between Alliant Energy Corporate Services, Inc., and American Transmission Company LLC which were inadvertently omitted when the Agreement was originally filed on December 22, 2000.

ATCLLC requests an effective date of January 1, 2001.

Comment date: February 2, 1996, in accordance with Standard Paragraph F at the end of this notice.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2065 Filed 1-23-01; 8:45 am]

BILLING CODE 6717-01-P